DEPARTMENT OF HOMELAND SECURITY

Coast Guard

[Docket No. USCG-2011-0104]

Policy for Guidelines for Coast Guard Evaluations of Compliance With the U.S. Environmental Protection Agency's Vessel General Permit for Discharges Incidental to the Normal Operation of Vessels

AGENCY: Coast Guard, DHS.

ACTION: Notice of availability.

SUMMARY: The Coast Guard announces the release of policy letter 11-01, Policy for Guidelines for Coast Guard Evaluations of Compliance with the U.S. Environmental Protection Agency's (EPA) Vessel General Permit (VGP) for Discharges Incidental to the Normal Operation of Vessels. This policy letter provides guidance to assist Coast Guard personnel to evaluate compliance with the provisions of the EPA's VGP, for U.S. and foreign-flagged vessels subject to the VGP and operating in the waters of the United States.

DATES: This policy became effective on February 11, 2011.

ADDRESSES: This notice and the policy are available in the docket and can be viewed by going to http://www.regulations.gov, inserting USCG-2011-0104 in the “Keyword” box, and then clicking “Search.” This policy is also available at http://www.homeport.uscg.mil under the Port State Control tab; Foreign Vessel Safety; Policy for Guidelines for Coast Guard Evaluations of Compliance with the U.S. Environmental Protection Agency's (EPA) Vessel General Permit for Discharges Incidental to the Normal Operation of Vessels. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this notice or the policy, call or e-mail Mr. John S. Sedlak, P.E., Foreign and Offshore Vessels Division (CG-5432), U.S. Coast Guard, telephone 202-372-1240. If you have questions on viewing or submitting material to the docket, call Ms. Renee V. Wright, Program Manager, Docket Operations, telephone 202-366-9826.

SUPPLEMENTARY INFORMATION:

Background and Purpose

The VGP is an EPA permitting program issued under the Clean Water Act (33 U.S.C. 1342) and provides requirements for discharges incidental to the normal operation of vessels. Under the Clean Water Act, discharges of pollutants from vessels that are not covered by the VGP are unlawful unless they are exempt or covered by another Clean Water Act permit. The Coast Guard shares a mutual interest in ensuring vessels comply with VGP provisions. In fulfilling its role as the nation's lead maritime law enforcement agency and to carry out its mission of environmental stewardship, it is in the interest of the Coast Guard to assist the EPA in the detection and reporting of VGP deficiencies onboard vessels during regularly scheduled inspections of U.S. vessels and during Port State Control (PSC) exams on foreign vessels. The Coast Guard will report detected VGP deficiencies to the EPA.

The Coast Guard has prepared policy letter 11-01, Policy for Guidelines for Coast Guard Evaluations of Compliance with the U.S. Environmental Protection Agency's Vessel General Permit for Discharges Incidental to the Normal Operation of Vessels, in consultation with the EPA to assist Coast Guard staff in the preparation for and the execution of VGP compliance monitoring inspections and exams. Vessel owners and/or operators are ultimately responsible for compliance with all aspects of the VGP. Vessels may be subject to inspection to verify compliance with any and all legal requirements. Vessel owners and operators may wish to take note of the minimum items that the Marine Inspectors (MI) and PSC Officers may examine during VGP compliance exams, as outlined in the policy letter. Vessel owners and operators should note further that MI/PSC Officers are not limited in the depth and scope of the examination.

Policy Implementation

The Coast Guard will evaluate vessels for compliance with the Vessel General Permit beginning on March 13, 2011.

Authority: This notice is issued under authority of 5 U.S.C. 552(a), 33 U.S.C. 1223, 14 U.S.C. 93(a)(20), and 14 U.S.C. 141.

Dated: March 3, 2011.
Kevin S. Cook,
Rear Admiral, U.S. Coast Guard, Director of Prevention Policy.

[FR Doc. 2011-5412 Filed 3-8-11; 8:45 am]

BILLING CODE 9110-04-P